DEPARTMENT OF ENERGY

[Docket No. ER03-556-000, et al.]

Federal Energy Regulatory Commission

February 28, 2003.

Ameren Services Company, et al.; Electric Rate and Corporate Filings

The following filings have been made with the Commission. The filings are listed in ascending order within each docket classification.

1. Ameren Services Company

[Docket Nos. ER03-556-000 and ER03-96-000]

Take notice that on February 24, 2003, Ameren Services Company (ASC) tendered for filing an unexecuted Service Agreement for Firm Point-to-Point Transmission Services between ASC and Cinergy Services, Inc., acting as agent for Southwestern Electric Cooperative, Inc. ASC asserts that the purpose of the Agreement is to replace the unexecuted Agreement in Docket No. ER03-96-000 with the executed Agreement.

Comment Date: March 17, 2003.

2. The United Illuminating Company

[Docket No. ER03-557-000]

Take notice that on February 26, 2003, The United Illuminating Company (UI) tendered for filing Service Agreement No. 22 under UI's FERC Electric Tariff, Second Revised Volume No. 4, a non-firm point-to-point transmission service agreement between UI and Green Mountain Power Corporation. UI requests an effective date for the service agreement of January 29, 2003.

Comment Date: March 19, 2003.

3. Nevada Power Company

[Docket No. ER03-558-000]

Take notice that on February 25, 2003, Nevada Power Company tendered for filing with the Federal Energy Regulatory Commission pursuant to section 205 of the Federal Power Act an executed Reimbursement Agreement between Nevada Power Company and Reliant Energy Arrow Canyon, LLC that sets forth the terms and conditions for the construction of certain interconnection facilities.

Nevada Power Company states that a copy of this filing has been served on Reliant Energy Arrow Canyon, LLC, the Public Utilities Commission of Nevada, and the Nevada Bureau of Consumer Protection.

Comment Date: March 18, 2003.

4. Automated Power Exchange, Inc.

[Docket No. ER03-559-000]

Take notice that on February 26, 2003, Automated Power Exchange, Inc. (APX) tendered for filing pursuant to 18 CFR 385.205, an Application for Order Accepting Rate Schedule, Granting Authorizations and Blanket Authority and Waving Certain Requirements.

Comment Date: March 19, 2003.

5. Devon Power LLC, Middletown PowerLLC; Montville Power LLC; Norwalk Power LLC; and NRG Power Marketing Inc.

[Docket No. ER03-563-000]

Take notice that Devon Power LLC, Middletown Power LLC, Montville Power LLC, Norwalk Power LLC (collectively Applicants) and NRG Power Marketing Inc., on February 26, 2003, tendered for filing Cost of Service Agreements (COS Agreements) among each of the Applicants, NRG Power Marketing Inc., and ISO New England Inc. Applicants request the Commission to establish a shortened notice period, issue an order on an expedited basis, and make the COS Agreements effective February 27, 2003 in order to permit Applicants to proceed with maintenance outage work on the generating facilities that are subject to the COS Agreements. Applicants further request that the Commission waive any and all applicable Commission regulations necessary to grant Applicants' requests.

Applicants state that they have provided a copy of this filing, and has also provided courtesy copies to the affected state regulatory authorities, counsel to the NEPOOL Participants Committee, and the NEPOOL Participants identified in their filing.

Comment Date: March 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-5703 Filed 3-10-03; 8:45 am]

BILLING CODE 6717-01-P